DEPARTMENT OF TRANSPORTATION

Maritime Administration

Notice of Funding Opportunity for America's Marine Highway Projects

AGENCY: Maritime Administration, DOT.

ACTION: Notice of funding opportunity.

SUMMARY: This notice announces the availability of funding for grants and establishes selection criteria and application requirements for the Short Sea Transportation Program, commonly referred to as the America's Marine Highway Program (AMHP). The purpose of this program is to make grants available to previously designated Marine Highway Projects that support the development and expansion of documented vessels, or port and landside infrastructure. The U.S. Department of Transportation (Department) will award Marine Highway Grants to implement projects or components of projects previously designated by the Secretary of Transportation (Secretary) under AMHP. Only Marine Highway Projects the Secretary designated before the Notice of Funding Opportunity closing date are eligible for funding as described in this notice.

DATES: Applications must be received by the Maritime Administration by 5 p.m. EDT on April 24, 2020.

ADDRESSES: Grant applications must be submitted electronically using Grants.gov (https://www.grants.gov). Please be aware that you must complete the Grants.gov registration process before submitting your application, and that the registration process usually takes 2 to 4 weeks to complete. Applicants are strongly encouraged to make submissions in advance of the deadline.

FOR FURTHER INFORMATION CONTACT: Fred Jones, Office of Ports & Waterways Planning, Room W21-311, Maritime Administration, U.S. Department of Transportation, 1200 New Jersey Ave. SE, Washington, DC 20590, phone 202-366-1123, or email Fred.Jones@dot.gov. Persons who use a telecommunications device for the deaf (TDD) may call the Federal Information Relay Service (FIRS) at 1-800-877-8339 to contact the above individual during business hours. The FIRS is available twenty-four hours a day, seven days a week, to leave a message or question with the above individual. You will receive a reply during normal business hours.

SUPPLEMENTARY INFORMATION: Each section of this Notice contains information and instructions relevant to the application process for these Marine Highway Grants, and all applicants should read this Notice in its entirety so that they have the information they need to submit eligible and competitive applications. Applications received after the deadline will not be considered except in the case of unforeseen technical difficulties as outlined below in Section D.4.

Table of Contents

A. Program Description

B. Federal Award Information

C. Eligibility Information

D. Application and Submission Information

E. Application Review Information

F. Federal Award Administration Information

G. Federal Awarding Agency Contacts

A. Program Description

The Secretary, in accordance with 46 U.S.C. 55601, established a short sea transportation grant program to implement projects or components of designated Marine Highway Projects. The grant funds currently available are for projects related to documented vessels and port and landside infrastructure.

The America's Marine Highway Program Office (Program Office) follows a three-step approach when supporting investment opportunities for Marine Highway services. The first step is designation of a Marine Highway Route by the Secretary. The Department accepts Marine Highway Route Designation requests at any time from Route Sponsors. Once a Route is designated, the second step is designation as a Marine Highway Project by the Secretary. Marine Highway Projects represent concepts for new services or expansions of existing marine highway services on designated Marine Highway Routes that use documented vessels and mitigate land congestion or promote short sea transportation. MARAD will announce by notice in the Federal Register open season periods to allow Project Applicants opportunities to submit Marine Highway Project Designation applications. A Project Applicant must receive a Project Designation for that project to then become eligible for Marine Highway Grant funding, the third step referenced above. Marine Highway Grant funding (the subject of this NOFO) is provided to successful public and private sector applicants as funds are appropriated by Congress.

The Further Consolidated Appropriations Act, 2020 (Pub. L. 116-94) appropriated $9,775,000 for Marine Highway Grants.

B. Federal Award Information

The total funding available for awards under this NOFO is $9,481,750, after $293,250 is set aside for MARAD grant administration and oversight.

MARAD will seek to obtain the maximum benefit from the available funding by awarding grants to as many qualified projects as possible; however, in accordance with 46 U.S.C. 55601(g)(3), MARAD shall give preference to those projects or components that present the most financially viable transportation services and require the lowest percentage of Federal share of the costs. Depending on the characteristics of the pool of qualified applications, it is possible MARAD may award all funds to a single project. MARAD may also award grants supporting a portion of a project described in an application by selecting discrete components. The start date and period of performance for each award will be determined by mutual agreement of MARAD and each grant recipient. MARAD will administer each Marine Highway Grant pursuant to a grant agreement with the Marine Highway Grant recipient, and funds will be administered on a reimbursable basis.

Prior recipients of Marine Highway Grants may apply for funding to support additional phases of a designated project. However, to be competitive, the grant applicant should demonstrate the extent to which the previously funded project phase has met estimated project schedules and budget, as well as the ability to realize the benefits expected for the new award.

C. Eligibility Information

To be selected for a Marine Highway Grant, an applicant must be an Eligible Applicant, and the project must be an Eligible Project.

1. Eligible Applicants

Eligible applicants for funding available under this Notice are an original Project Applicant of a project that the Secretary has previously designated as a Marine Highway Project or a substitute (which can be either a public entity or a private-sector entity who has been referred to the Program Office by the original Project Applicant, with a written explanation, as part of the application). Original Project Applicants are defined as those public entities named by the Secretary in the original designated project. Grant applicants must have operational, or administrative areas of responsibility, that are adjacent to or near the relevant designated Marine Highway Project. Eligible grant applicants include State governments (including State departments of transportation), metropolitan planning organizations, port authorities, and tribal governments, or private sector operators of marine highway services within designated Marine Highway Projects.

Grant applicants are encouraged to develop coalitions and public/private partnerships, which might include vessel owners and operators; third-party logistics providers; trucking companies; shippers; railroads; port authorities; state, regional, and local transportation planners; environmental organizations; impacted communities; or any combination of entities working in collaboration on a single grant application that can be submitted by the original Project Applicant or their designated substitute. All successful grant applicants, whether they are public or private entities, must comply with all Federal requirements.

If multiple applicants submit a joint grant application, they must identify a lead grant applicant as the primary point of contact. Joint grant applications must include a description of the roles and responsibilities of each applicant, including designating the one entity that will receive the Federal funds directly from MARAD, and must be signed by each applicant.

2. Cost Sharing or Matching

An applicant must provide at least 20 percent of project costs from non-Federal sources. The application should demonstrate, such as through a letter or other documentation, the sources of these funds. Preference will be given to those projects that provide a larger percentage of costs from non-Federal sources. Matching funds are subject to the same Federal requirements described in Section F.2 as Federally-awarded funds, including applicable Buy American requirements.

3. Other

Eligible Projects

The purpose of this grant program is to create new marine highway services or to expand existing marine highway services. Only projects or their components that the Secretary has previously designated as Marine Highway Projects, are eligible for this round of grant funding. Projects proposed for funding must support the development and expansion of documented vessels or port and landside infrastructure. Grant funds may be requested for eligible project planning activities; however, market-related studies are ineligible to receive Marine Highway Grants.

The current list of designated Marine Highway Projects can be found on the Marine Highway website at: https://www.maritime.dot.gov/grants/marine-highways/marine-highway-project-description-pages.

D. Application and Submission Information

1. Address To Request Application Package

Applications may be found at and must be submitted through Grants.gov. Applications must include the Standard Form 424 (Application for Federal Assistance), which is available on the Grants.gov website at https://www.grants.gov/web/grants/forms/sf-424-family.html.

2. Content and Form of Application Submission

In addition to the SF-424, the application should include the Project Narrative. MARAD recommends that the Project Narrative follows the basic outline below to address the program requirements and assist evaluators in locating relevant information.

I. First Page of Project Narrative | See D.2.i.
II. Project Description | See D.2.ii.
III. Project Location | See D.2.iii.
IV. Grant Funds, Sources and Uses of all Project Funding | See D.2.iv.
V. Selection Criteria | See D.2.v and E.1.
VI. Other Application Requirements | See D.2.vi.

The Project Narrative should include the information necessary for MARAD to determine that the project satisfies the requirements described in Sections B and C, and to assess the selection criteria specified in Section E.1. This includes a detailed project description, location, and budget. To the extent practicable, applicants should provide supporting data and documentation in a form that is directly verifiable by MARAD. Applicants are strongly encouraged to provide quantitative information, including baseline information, that demonstrates the project's merits and economic viability. MARAD may ask any applicant to supplement data in its application, but expects applications to be complete upon submission. Incomplete applications may not be considered for an award.

Consistent with the Department's R.O.U.T.E.S. Initiative (https://www.transportation.gov/rural), the Department encourages applicants to describe how activities proposed in their application would address the unique challenges facing rural transportation networks, regardless of the geographic location of those activities.

The Project Narrative should also include a table of contents, maps and graphics, as appropriate, to make the information easier to review. MARAD recommends that the Project Narrative be prepared with standard formatting preferences (a single-spaced document, using a standard 12-point font such as Times New Roman, with 1-inch margins, and the narrative text in one column only). The Project Narrative may not exceed 10 pages in length, excluding the table of contents and appendices. The only substantive portions that may exceed the 10-page limit are documents supporting assertions or conclusions made in the 10-page Project Narrative. If possible, website links to supporting documentation should be provided rather than copies of these supporting materials, though it is important to ensure that the website links are currently active and working. If supporting documents are submitted, applicants should clearly identify within the Project Narrative the relevant portion of the Project Narrative that each supporting document supports. At the applicant's discretion, relevant materials provided previously in support of a Marine Highway Project application may be referenced, updated, or described as unchanged. To the extent documents provided previously are referenced, they need not be resubmitted in support of a Marine Highway Grant application.

To ensure the Project Narrative is sufficiently detailed and informative, MARAD recommends applications include the following sections:

i. First Page of Project Narrative

The first page of the Project Narrative should provide the following items of information:

(A) Marine Highway Project name and the original Project Applicant (as stated on the Marine Highway Program's list of Designated Projects);

(B) Primary point of contact. An application must include the name, phone number, email address, and business address of the primary point of contact for the grant applicant;

(C) Total amount of the proposed grant project cost in dollars and the amount of grant funds the applicant is seeking, along with sources and share of matching funds;

(D) Executive Summary, which should include an outline of the background of the project, the need for the project, and how the grant funding will be applied in the context of the service referenced in the original Project Designation application;

(E) Project parties. The public and private partners engaged in the Marine Highway Project;

(F) The Data Universal Numbering System (DUNS) number associated with the application. Marine Highway Grants and their first-tier sub-awardees must obtain DUNS numbers, which are available at https://fedgov.dnb.com/webform; and

(G) Evidence of registration with the System for Award Management (SAM) at https://www.SAM.gov.

ii. Project Description

The next section of the application should provide a concise description of the project. The project description must be in paragraph form providing a high-level view of the overall project and its major components. This section should discuss the project's history, including a description of any previously completed components. The applicant may use this section to place the project into a broader context of other transportation infrastructure investments being pursued by the grant applicant, and, if applicable, how it will benefit communities in rural areas. This section should also include a timeline for implementing the project.

iii. Project Location

This section of the application should describe the project location, including a detailed geographical description of the proposed project, a map of the project's location and connections to existing transportation infrastructure, and geospatial data describing the project location.

The application should also state whether the project is located in an urban area (UA) or rural area (RA) as designated by the U.S. Census Bureau at http://www2.census.gov/geo/maps/dc10map/UAUC_RefMap/ua/.

The Department will consider a project to be in a RA if the majority of the project (determined by geographic location(s) where the majority of the money is to be spent) is located in a RA. Grant funds utilized in an UA border, including an intersection with an UA, will be considered urban for the purposes of the FY 2020 Marine Highway Grants.

Applicants should state whether the project is located in a Qualified Opportunity Zone designated pursuant to 26 U.S.C. 1400Z-1.

iv. Grant Funds, Sources and Uses of Project Funds

This section of the application should describe the project's budget. The budget should not include any previously incurred expenses. At a minimum, it should include:

(A) Project costs;

(B) The source and amount of those funds to be used for project costs;

(C) For non-Federal funds to be used for eligible project costs, documentation of funding commitments should be referenced here and included as an appendix to the application;

(D) For Federal funds to be used for eligible project costs, the amount, nature, and source of any required non-Federal match for those funds;

(E) A budget showing how each source of funds will be spent. The budget should show how each funding source will share in each project component, and present that data in dollars and percentages. Funding sources should be grouped into three categories: Non-Federal; Marine Highway Grant funding; and other Federal. A letter of commitment from each funding source should be an attachment to the application. If the project contains individual components, the budget should separate the costs of each project component. The budget should sufficiently demonstrate that the project satisfies the statutory cost-sharing requirements described in Section C.2.

v. Selection Criteria

This section of the application should demonstrate how the project proposed for grant funding aligns with the criteria described below and in Section E.1. MARAD encourages applicants to address each criterion, or expressly state that the project does not address the criterion. Applicants are not required to follow a specific format, but MARAD recommends applicants address each criterion separately using the outline suggested below, which provides a clear discussion that assists project evaluators. Guidance describing how MARAD will evaluate projects against the Selection Criteria is in Section E.1 of this Notice. Applicants also should review that section before considering how to organize and complete their application. To minimize redundant information in the application, MARAD encourages applicants to cross-reference from this section of their application to relevant substantive information in other sections of the application.

(A) Primary Selection Criteria

(1) This section of the application should demonstrate the extent to which the project is financially viable. Pet 46 U.S.C. 55601(g)(3), preference will be given to projects or components that present the most financially viable transportation services.

(2) This section of the application should demonstrate that the funds received will be spent efficiently and effectively.

(3) This section of the application should demonstrate that a market exists for the services of the proposed project as evidenced by contracts or written statements of intent from potential customers.

(4) This section of the application should describe the public benefits anticipated by the proposed grant project, as outlined in 46 CFR 393.3(c)(8), and described below. The public benefits described in the relevant Marine Highway Project Designation application may be referenced, updated, or described as unchanged. Applicants will need to clearly demonstrate that the original public benefits outlined in the original project designation application apply to the specific grant funding request associated with this Notice, and provide any updates or supplement the original public benefits, as necessary. To the extent referenced, this information need not be resubmitted in support of a Marine Highway Grant application. Applicants should organize their external net cost savings and public benefits of the proposed grant project based on the following six categories:

(i) Emissions benefits;

(ii) Energy savings;

(iii) Landside transportation infrastructure maintenance savings;

(iv) Economic competitiveness;

(v) Safety improvements;

(vi) System resiliency and redundancy.

vi. Other Application Requirements

(A) National Environmental Policy Act (NEPA) Requirements

Projects selected for grant award must comply with NEPA and any other applicable environmental laws. The application should provide information about the NEPA status of the project. If the environmental review process is underway but not complete at the time of the application, the application must detail where the project is in the process, indicate the anticipated date of completion, and provide a website link or other reference to copies of any environmental documents prepared.

(B) Other Federal, State, and Local Actions

An application must indicate whether the proposed project is likely to require actions by other agencies (e.g., permits), indicate the status of such actions, provide a website link or other reference to materials submitted to the other agencies, and demonstrate compliance with other Federal, state, or local regulations and permits as applicable.

(C) Certification Requirements

For an application to be considered for a grant award, the Chief Executive Officer, or equivalent, of the applicant is required to certify, in writing, the following:

1. That, except as noted in this grant application, nothing has changed from the original application for formal designation as a Marine Highway Project; and

2. The grant applicant will administer the project and any funds received will be spent efficiently and effectively; and

3. The grant applicant will provide information, data, and reports as required.

(D) Protection of Confidential Commercial Information

Grant applicants should submit, as part of or in support of an application, publicly available data or data that can be made public and methodologies that are accepted by industry practice and standards to the extent possible. If the application includes information that the applicant considers to be a trade secret or confidential commercial or financial information, the applicant should do the following: Note on the front cover that the submission contains “Confidential Commercial Information (CCI)”; mark each affected page “CCI”; and highlight or otherwise denote the CCI portions. MARAD will protect such information from disclosure to the extent allowed under applicable law. In the event MARAD receives a Freedom of Information Act (FOIA) request for the information, procedures described in the Department's FOIA regulation at 49 CFR 7.29 will be followed. Only information that is ultimately determined to be confidential under those procedures will be exempt from disclosure under FOIA.

(E) Additional Application Information Needed From Private-Sector Applicants

1. Written referral from the original successful Project Applicant stating that the private entity has been referred by the original Project Applicant for the relevant designated Marine Highway Project.

2. A description of the entity including location of the headquarters; a description of the entity's assets (tugs, barges, etc.); years in operation; ownership; customer base; and website address, if any.

3. Unique entity identifier of the parent company (when applicable): Data Universal Numbering System (DUNS + 4 number) (when applicable).

4. The most recent year-end audited, reviewed or compiled financial statements, prepared by a certified public accountant (CPA), per U.S. generally accepted accounting principles (not tax-based accounting financial statements). If CPA prepared financial statements are not available, provide the most recent financial statement for the entity. Do not provide tax returns.

5. Statement regarding the relationship between applicants and any parents, subsidiaries or affiliates, if any such entity is going to provide a portion of the match.

6. Evidence documenting applicant's ability to make proposed matching requirement (loan agreement, commitment from investors, cash on balance sheet, etc.).

7. Pro-forma financial statements reflecting financial condition at beginning of period; effect on balance sheet of grant and matching funds (e.g., a decrease in cash or increase in debt, additional equity and an increase in fixed assets); and impact on company's projected financial condition (balance sheet) of completion of project, showing that company will have sufficient financial resources to remain in business.

8. Statement whether during the past five years, the applicant or any predecessor or related company has been in bankruptcy or in reorganization under Chapter 11 of the Bankruptcy Code, or in any insolvency or reorganization proceedings, and whether any substantial property of the applicant or any predecessor or related company has been acquired in any such proceeding or has been subject to foreclosure or receivership during such period. If so, give details.

9. Additional information may be requested as deemed necessary by MARAD to facilitate and complete its review of the application. If such information is not provided, MARAD may deem the application incomplete and cease processing it.

10. Company Officer's certification of each of the following:

a. That the company operates in the geographic location of the designated Marine Highway Project;

b. That the applicant has the authority to carry out the proposed project; and

c. That the applicant has not, and will not make any prohibited payments out of the requested grant, in accordance with the Department of Transportation's regulation restricting lobbying, 49 CFR part 20.

3. Unique Entity Identifier and System for Award Management (SAM)

MARAD will not make an award to an applicant until the applicant has complied with all applicable DUNS and SAM requirements. Each applicant must be registered in SAM before applying, provide a valid Unique Entity Identifier number in its application, and maintain an active SAM registration with current information throughout the period of the award. Applicants may register with the SAM at www.SAM.gov. Applicants can obtain a DUNS number at http://fedgov.dnb.com/webform. If an applicant has not fully complied with the requirements by the time MARAD is ready to make an award, MARAD may determine that the applicant is not qualified to receive a Federal award under this program.

4. Submission Dates and Times

Applications must be received by 5 p.m. EDT on April 24, 2020. Late applications that are the result of failure to register or comply with Grants.gov application requirements in a timely manner will not be considered. Applicants experiencing technical issues with Grants.gov that are beyond the applicant's control must contact MH@dot.gov or Fred Jones at 202-366-1123 prior to the deadline with the user name of the registrant and details of the technical issue experienced. The applicant must provide: Details of the technical issue experienced; screen capture(s) of the technical issue experienced along with the corresponding “Grant tracking number” that is provided via Grants.gov; the “Legal Name” for the applicant that was provided in the SF-424; the name and contact information for the person to be contacted on matters involving submission that is included on the SF-424; the DUNS number associated with the application; and the Grants.gov Help Desk Tracking Number.

5. Funding Restrictions

MARAD will not allow reimbursement of any pre-award costs that may have been incurred by an applicant. Grant funds may only be used for the purposes described in this Notice and may not be used as an operating subsidy. Market-related studies are ineligible for Marine Highway Grant funds.

6. Other Submission Requirements

Grant applications must be submitted electronically using Grants.gov (https://www.grants.gov).

E. Application Review Information

1. Selection Criteria

This section specifies the criteria that MARAD will use to evaluate and award applications for Marine Highway Grants. These criteria incorporate the statutory requirements for this program, as well as Departmental and Programmatic priorities.

When reviewing grant applications, MARAD will consider how the proposed service could satisfy, in whole or in part, 46 U.S.C. 55601(b)(1) and (3) and the following criteria found at 46 U.S.C. 55601(g)(2)(B):

• The project is financially viable;

• The funds received will be spent efficiently and effectively; and

• A market exists for the services of the proposed project as evidenced by contracts or written statements of intent from potential customers.

MARAD will also consider how the proposed request for funding outlined in the grant application supports the elements of 46 CFR 393.3(c)(8) (Public benefits) as a key programmatic objective.

After applying the above preferences, MARAD will consider the following key Departmental objectives:

• Supporting economic vitality at the national and regional level;

• Utilizing alternative funding sources and innovative financing models to attract non-Federal sources of infrastructure investment;

• Accounting for the life-cycle costs of the project to promote the state of good repair;

• Using innovative approaches to improve safety and expedite project delivery; and,

• Holding grant recipients accountable for their performance and achieving specific, measurable outcomes identified by grant applicants.

In awarding grants under the program, MARAD will give preference to those projects or components that present the most financially viable marine highway transportation services and require the lowest total percentage Federal share of the costs. MARAD may also consider whether a project is located in a Qualified Opportunity Zone designated pursuant to 26 U.S.C. 1400Z-1.

Consistent with the Department's R.O.U.T.E.S. Initiative (https://www.transportation.gov/rural), the Department recognizes that rural transportation networks face unique challenges. To the extent that those challenges are reflected in the merit criteria listed in this section, the Department will consider how the activities proposed in the application will address those challenges, regardless of the geographic location of those activities.

2. Review and Selection Process

Upon receipt, MARAD will conduct a technical review to evaluate the application using the criteria outlined above. Upon completion of the technical review, MARAD will forward the applications to an inter-agency review team (Intermodal Review Team). The Intermodal Review Team will include members of MARAD, other Department of Transportation Operating Administrations, and representatives from the Office of the Secretary of Transportation. The Intermodal Review Team will assign ratings of “highly recommended,” “recommended,” “not recommended,” “incomplete,” or “not eligible” for each application based on the criteria set forth above. The Intermodal Review Team will provide its findings to the Program Office. The Program Office will use those findings to inform the recommendations that will be made to the Maritime Administrator and the Secretary.

3. FAPIIS Check

MARAD is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. MARAD will consider any comments by the applicant, in addition to the other information in the designated integrity and performance system, in making a judgment about the applicant's integrity, business ethics, and record of performance under Federal awards when completing the review of risk posed by applicants.

F. Federal Award Administration Information

1. Federal Award Notices

Following the evaluation outlined in Section E, the Secretary will announce the selected grant award recipients. The award announcement will be posted on the MARAD website (https://www.marad.dot.gov).

2. Administrative and National Policy Requirements

All awards must be administered pursuant to the “Uniform Administrative Requirements, Cost Principles and Audit Requirements for Federal Awards” found at 2 CFR part 200, as adopted by the Department at 2 CFR part 1201. Federal wage rate requirements included at 40 U.S.C. 3141-3148 apply to all projects receiving funds under this program and apply to all parts of the project, whether funded with Federal funds or non-Federal funds. Additionally, all applicable Federal laws and regulations will apply to projects that receive Marine Highway Grants.

MARAD and the applicant will enter into a written grant agreement after the applicant has satisfied applicable administrative requirements, such as environmental review requirements. The grant agreement is the fund-obligating document and will also describe the period of performance for the project as well as the schedule for construction or procurement. Funds will be administered on a reimbursable basis. MARAD reserves the right to revoke any award of Marine Highway Grant funds and to award such funds to another project to the extent that such funds are not expended in a timely or acceptable manner and in accordance with the project schedule.

As expressed in Executive Orders 13788 of April 18, 2017 and 13858 of January 31, 2019, it is the policy of the executive branch to maximize, consistent with law, the use of goods, products, and materials produced in the United States in the terms and conditions of Federal financial assistance awards. Consistent with the requirements of Section 410 of Division H—Transportation, Housing and Urban Development, and Related Agencies Appropriations Act, 2020, of the Further Consolidated Appropriations Act, 2020, (Pub. L. 116-94), the Buy American requirements of 41 U.S.C. Chapter 83 apply to funds made available under this Notice, and all award recipients must apply, comply with, and implement all provisions of the Buy American Act and related provisions in the grant agreement when implementing Marine Highway Grants. Depending on other funding streams, the project may be subject to separate “Buy America” requirements.

If a project intends to use any product with foreign content or of foreign origin, this information should be listed and addressed in the application. Applications should expressly address how the applicant plans to comply with domestic-preference requirements and whether there are any potential foreign-content issues with their proposed project. Applications that use grant funds for domestic-content purchases will be viewed favorably. If certain foreign content is granted an exception or waiver from Buy American or Buy America requirements, a Cargo Preference requirement may apply.

3. Reporting

Award recipients are required to submit quarterly reports, signed by an officer of the recipient, to the Program Office to keep MARAD informed of all activities during the reporting period. The reports will indicate progress made, planned activities for the next reporting period, and a listing of any purchases made with grant funds during the reporting period. In addition, the report will include an explanation of any deviation from the projected budget and timeline. Quarterly reports will also contain, at a minimum, the following: a statement as to whether the award recipient has used the grant funds consistent with the terms contemplated in the grant agreement; if applicable, a description of the budgeted activities not procured by recipient; if applicable, the rationale for recipient's failure to execute the budgeted activities; if applicable, an explanation as to how and when recipient intends to accomplish the purposes of the grant agreement; and a budget summary showing funds expended since commencement, anticipated expenditures for the next reporting period, and expenditures compared to overall budget.

Grant award recipients will also collect information and report on the project's observed performance with respect to the relevant long-term outcomes that are expected to be achieved through the project. Performance indicators will not include formal goals or targets, but will include observed measures under baseline (pre-project) as well as post-implementation outcomes for an agreed-upon timeline, and will be used to evaluate and compare projects and monitor the results that grant funds achieve to the intended long-term outcomes of the AMHP. Performance reporting continues for several years after project construction is completed, and MARAD does not provide Marine Highway Grant funding specifically for performance reporting.

G. Federal Awarding Agency Contacts

To ensure applicants receive accurate information about eligibility, the program, or in response to other questions, applicants are encouraged to contact MARAD directly, rather than through intermediaries or third parties. Please see contact information in the FOR FURTHER INFORMATION CONTACT section above.

By Order of the Maritime Administrator.
T. Mitchell Hudson, Jr.,
Secretary, Maritime Administration.

[FR Doc. 2020-07511 Filed 4-8-20; 8:45 am]

BILLING CODE 4910-81-P